DEPARTMENT OF ENERGY

Federal Energy Regulatory Commission

[Project No. 2210-087 & 088]

Notice of Application for Amendment of License and Soliciting Comments, Motions To Intervene, and Protests

May 1, 2003.

Take notice that the two following applications have been filed with the Commission and are available for public inspection:

a. Application Types: Non-Project Use of Project Lands.

b. Project Nos: 2210-087 and 2210-088.

c. Date Filed: March 5, 2003 and supplemented by letter dated April 22, 2003

d. Applicant: Appalachian Power Company (APC)

e. Name of Project: Smith Mountain

f. Location: The project is located on the Roanoke River, in Bedford, Pittsylvania, Franklin, and Roanoke Counties, Virginia.

g. Filed Pursuant to: Federal Power Act, 16 U.S.C. 791 (a) 825(r) and 799 and 801.

h. Applicant Contact: Teresa P. Rogers, Hydro Generation Department, American Electric Power, P.O. Box 2021, Roanoke, VA 24022-2121, (540) 985-2451

i. FERC Contact: Any questions on this notice should be addressed to Mrs. Heather Campbell at (202) 502-6182, or e-mail address: heather.campbell@ferc.gov.

j. Deadline for filing comments and or motions: May 30, 2003.

All documents (original and eight copies) should be filed with: Magalie R. Salas, Secretary, Federal Energy Regulatory Commission, 888 First Street, NE., Washington, DC 20426. Comments, protests and interventions may be filed electronically via the Internet in lieu of paper. See 18 CFR 385.2001(a)(1)(iii) and the instructions on the Commission's Web site at http://www.ferc.gov under the “e-Filing” link. The Commission strongly encourages e-filings.

k. Description of Request: P-2210-087-APC is requesting Commission approval to permit Willard Construction of Roanoke Valley, Inc. (permittee) to install and operate 4 stationary docks with 12 covered boat slips and two floaters each for a total of forty-eight boat slips and 8 floaters. The facilities would be constructed along the Roanoke River at an area known as South Pointe Condominiums at The Waterfront. No dredging is planned as part of this proposal.

For P-2210-088-APC is requesting Commission approval to permit Grand Harbour, LTD (permittee) to install and operate 3 stationary docks with 10 covered boat slips and one floater each for a total of thirty boat slips and 3 floaters. The facilities would be constructed along the Roanoke River at an area known as Grand Harbour. No dredging is planned as part of this proposal.

l. Location of the Applications: This filing is available for review at the Commission in the Public Reference Room 888 First Street, NE., Room 2A, Washington, DC 20426 or may be viewed on the Commission's Web site at http://www.ferc.gov using the “FERRIS” link. Enter the docket number excluding the last three digits in the docket number field to access the document. For assistance, call toll-free 1-866-208-3676 or e-mail FERCOnlineSupport@ferc.gov. For TTY, call (202) 502-8659. A copy is also available for inspection and reproduction at the address in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, state, and local agencies are invited to file comments on the described applications. A copy of the application may be obtained by agencies directly from the Applicant. If an agency does not file comments within the time specified for filing comments, it will be presumed to have no comments. One copy of an agency's comments must also be sent to the Applicant's representatives.

Magalie R. Salas,
Secretary.

[FR Doc. 03-11381 Filed 5-6-03; 8:45 am]

BILLING CODE 6717-01-P